DEPARTMENT OF LABOR

Employment and Training Administration

[TA-W-41,879]

Scotty Fashions #6, Lehighton, PA; Notice of Termination of Investigation

Pursuant to section 221 of the Trade Act of 1974, an investigation was initiated on July 22, 2002, in response to a petition filed on behalf of workers at Scotty Fashions #6, Lehighton, Pennsylvania.

The investigation revealed that there is an existing petition (TA-41,665A) for the subject firm that has been assigned to another investigator.

Consequently further investigation in this case would serve no purpose, and the investigation has been terminated.

Signed in Washington, DC, this 23rd day of August, 2002.
Elliott S. Kushner,
Certifying Officer, Division of Trade Adjustment Assistance.

[FR Doc. 02-22962 Filed 9-9-02; 8:45 am]

BILLING CODE 4510-30-P